DEPARTMENT OF HEALTH AND HUMAN SERVICES

Administration for Community Living

[OMB # 0985-New]

Agency Information Collection Activities; Submission for OMB Review; Public Comment Request; One Protection and Advocacy Annual Program Performance Report

AGENCY: Administration for Community Living (ACL), HHS.

ACTION: Notice.

SUMMARY: The Administration for Community Living is announcing that the proposed collection of information listed above has been submitted to the Office of Management and Budget (OMB) for review and clearance as required by the Paperwork Reduction Act of 1995. This 30-Day notice collects comments on the information collection requirements related to the proposed new data collection (ICR New).

DATES: Submit written comments on the collection of information by April 18, 2019.

ADDRESSES: Submit written comments on the collection of information by:

(a) Email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Ophelia McLain, Administration for Community Living, Administration on Intellectual and Developmental Disabilities, Office of Program Support, 330 C Street SW, Washington, DC 20201, (202) 795-7401 or Ophelia.McLain@acl.hhs.gov.

SUPPLEMENTARY INFORMATION: In compliance with 44 U.S.C. 3507, ACL has submitted the following proposed collection of information to OMB for review and clearance. ACL is publishing a notice of the proposed collection of information set forth in this document.

This proposed new data collection will replace four existing Protection and Advocacy Program Performance Reports and other revisions.

The four annual reports include the following: (1) Developmental Disabilities Protection and Advocacy Systems Program Performance Report (0985-0027), (2) Protection and Advocacy for Assistive Technology (PAAT) Program Performance Report (0985-0046); (3) Protection and Advocacy Voting Access Annual Report (Help America Vote Act) (HAVA) (0985-0028); and (4) Protection and Advocacy for Traumatic Brain Injury (PATBI) Program Performance Report (0985-0058).

State Protection and Advocacy (P&A) Systems in each State and Territory provide individual legal advocacy, systemic advocacy, monitoring and investigations to protect and advance the rights of people with developmental disabilities, using funding administered by the Administration on Intellectual and Developmental Disabilities (AIDD), Administration on Disabilities, Administration for Community Living, HHS. To meet statutory reporting requirements, P&As have used four separate forms for submitting annual reports. It is proposed that the four forms be combined by creating the One Protection and Advocacy Annual Program Performance Report form. Once the four program performance reports are combined, the current OMB approval numbers for each report will be retired, and a new approval number will be created for the One Protection and Advocacy Program Performance Report. Each P&A system currently submits four separate reports to AIDD—one report for each of the funding sources listed below. By combining the forms, P&As will have a reduced burden because they will be submitting only one report annually. Duplicative background and other data that appear in multiple reports will only need to be entered once.

This also will promote accuracy and consistency because this data will not need to be entered multiple times. The authority for each report is as follows:

• The Developmental Disabilities Assistance and Bill of Rights Act, 42 U.S.C. 15044: Federal statute and regulation require each P&A to annually prepare a report that describes the activities and accomplishments of the system during the preceding fiscal year and a Statement of Goals and Priorities for each coming fiscal year.

P&As are required to annually report on “the activities, accomplishments, and expenditures of the system during the preceding fiscal year, including a description of the system's goals, the extent to which the goals were achieved, barriers to their achievement, the process used to obtain public input, the nature of such input, and how such input was used.”

• The Children's Health Act of 2000, 42 U.S.C. Section 300d-53(h), requires the P&A System in each State to annually prepare and submit to the Secretary a report that includes documentation of the progress they have made in serving individuals with traumatic brain injury.

• The Assistive Technology Act of 1998, Section 5, as amended, Public Law 108-36, (AT Act), requires the P&A System in each State to annually prepare and submit to the Secretary a report that includes documentation of the progress they have made in—

1. conducting consumer-responsive activities, including activities that will lead to increased access for individuals with disabilities to funding for assistive technology devices and assistive technology services;

2. engaging in informal advocacy to assist in securing assistive technology and assistive technology services for individuals with disabilities;

3. engaging in formal representation for individuals with disabilities to secure systems change, and in advocacy activities to secure assistive technology and assistive technology services for individuals with disabilities;

4. developing and implementing strategies to enhance the long-term abilities of individuals with disabilities and their family members, guardians, advocates, and authorized representatives to advocate the provision of assistive technology devices and assistive technology services to which the individuals with disabilities are entitled under law other than this Act; and

5. coordinating activities with protection and advocacy services funded through sources other than this title, and coordinating activities with the capacity building and advocacy activities carried out by the lead agency.

• The Help America Vote Act, Public Law 107-252, Title II, Subtitle D, Section 291, (42 U.S.C. 15461), requires each grantee to annually submit a narrative report describing the work performed with the funds authorized under 42 U.S.C. 15461 of the Help America Vote Act of 2002.

The combined form will also allow federal reviewers to analyze patterns more readily between goals, priority setting, and program performance. The annual program performance report (PPR) is reviewed by federal staff for compliance and outcomes. Information in the PPRs is analyzed to create a national profile of programmatic compliance, outcomes, and goals and priorities for P&A Systems for tracking accomplishments against these goals and priorities and to determine areas needing technical assistance, including compliance with Federal requirements.

Information collected in the unified report will inform AIDD of trends in P&A advocacy, collaboration with other Federally-funded entities, and identify best practices for efficient use of federal funds.

Comments in Response to the 60 Day Federal Register Notice

A 60-day comment period was provided. The solicitation of comments for the proposed information collection was published in the Federal Register, Vol. 83, No. 198 (Friday, October 12, 2018).

Five comments were received during the public comment period. Three addressed AIDD's and the Secretary's monitoring role of the P&As.

They were not relevant to this request for comment. One commenter suggested AIDD collect information on employees with disabilities in the proposed section on “Consumer Involvement in Governance.” As consumer involvement in all levels of P&A activity is important, AIDD adopts that suggestion for the revised form. One commenter suggested that we change the list of AT devices. After consideration of the comment, AIDD will modify the list of AT devices while retaining the majority of the original categories. One commenter suggested we delay the data collection for one year to allow grantees time to prepare. While this may be optimal, two other tools are expiring in 2019. Therefore, AIDD will proceed with using this data collection in 2019.

Issues of the scope, content, availability of data, format, and clarity of instructions for the One PPR have been discussed with all of the P&A systems through focus groups, work groups, and in conferences organized on behalf of Administration on Intellectual and Developmental Disabilities by the National Disability Rights Network (NDRN). The format is based on the efforts of these focus groups, work groups, and conferences.

The proposed form(s) may be found on the ACL website at: https://www.acl.gov/about-acl/public-input.

Estimated Program Burden

The annual burden on this form is estimated as 7,296 annual burden hours.

Annual Burden Estimates
Instrument | Number of respondents | Number of responses per respondent | Average burden hours per response | Total burden hours
One Protection and Advocacy Annual Program Performance Report | 57 | 1 | 128 | 7,296

Dated: March 13, 2019.
Lance Robertson,
Administrator and Assistant Secretary for Aging.

[FR Doc. 2019-05114 Filed 3-18-19; 8:45 am]

BILLING CODE 4154-01-P